DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (301) 443-7978.

Protection and Advocacy for Individuals with Mental Illness (PAIMI) Annual Program Performance Report (OMB No. 0930-0169, Revision)—The Protection and Advocacy for Individuals with Mental Illness (PAIMI) Act (42 USC. 10801 et seq.) authorized funds to support protection and advocacy services on behalf of individuals with severe mental illness and severe emotional impairment who are at risk for abuse and neglect and other civil rights violations while under treatment in a residential facility. This program is managed by SAMHSA's Center for Mental Health Services (CMHS).

Under the PAIMI Act, formula grant awards are made to protection and advocacy (P&A) systems designated by the governors of the 50 states and 6 territories, and the District of Columbia to ensure that the rights of individuals with severe mental illness and severe emotional disturbance are not violated. In October 2000, the PAIMI Act was amended to create a 57th P&A system—the American Indian Consortium in Shiprock, New Mexico. Whenever the annual PAIMI appropriation reaches $30 million or more, State P&A systems may serve eligible individuals with serious mental illness or severe emotional impairments, as defined under the Act, residing in the community, including their own homes. However, PAIMI eligible persons residing in public and private residential care or treatment facilities have priority for all P&A system services.

The PAIMI Act requires P & A systems to file an annual report on their activities and accomplishments and to provide information on such topics as: numbers of individuals served, types of complaints addressed, and the number of intervention strategies used to resolve the presenting issues. Under the Act, there is an Advisory Council which is also required to submit an annual report that assesses the effectiveness of the services provided to, and the activities conducted by, the P&A systems on behalf of PAIMI eligible individuals and their family members. In this submission, CMHS is reinstating information on fiscal year actual budget expenditures and making primarily minor changes to the annual reports. The revised report formats will be effective for the report due on January 1, 2004. The annual burden estimate is as follows:

| Number of respondents | Number of responses per respondent | Hours per response | Total hour burden
Annual Program Performance Report | 57 | 1 | 28 | 1,596
Activities & Accomplishments |  |  | (20) | (1,140)
Performance outcomes |  |  | (3) | (171)
Expenses |  |  | (2) | (114)
Budget |  |  | (2) | (114)
Priority statements & objectives |  |  | (1) | (57)
Advisory Council Report | 57 | 1 | 10 | 570
Total | 114 |  |  | 2,166

Written comments and recommendations concerning the proposed information collection should be sent within 30 days of this notice to: Allison Herron Eydt, Human Resources and Housing Branch, Office of Management and Budget, New Executive Office Building, Room 10235, Washington, DC 20503.

Dated: January 15, 2003.
Richard Kopanda,
Executive Officer, SAMHSA.

[FR Doc. 03-2273 Filed 1-30-03; 8:45 am]

BILLING CODE 4162-20-P